DEPARTMENT OF STATE

[PUBLIC NOTICE 6165]

Culturally Significant Objects Imported for Exhibition; Determinations: “Muraqqa': IMPERIAL MUGHAL ALBUMS From the Chester Beatty Library, Dublin”

SUMMARY: Notice is hereby given of the following determinations: Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, Delegation of Authority No. 236 of October 19, 1999, as amended, and Delegation of Authority No. 257 of April 15, 2003 [68 FR 19875], I hereby determine that the objects in the exhibition: “Muraqqa': Imperial Mughal Albums from the Chester Beatty Library, Dublin,” imported from abroad for temporary exhibition within the United States, are of cultural significance. The objects are imported pursuant to a loan agreement with the foreign owner or custodian. I also determine that the exhibition or display of the exhibit objects at the Arthur M. Sackler Gallery, Smithsonian Institution, Washington, DC, from on or about May 3, 2008, until on or about August 3, 2008; Detroit Institute of Arts, Detroit, MI, from on or about August 23, 2008, until on or about November 16, 2008; Honolulu Academy of Arts, Honolulu, HI, from on or about December 17, 2008, until on or about March 1, 2009; Nelson-Atkins Museum of Art, Kansas City, MO, from on or about March 21, 2009, until on or about June 14, 2009; Denver Art Museum, Denver, CO, from on or about July 4, 2009, until on or about September 27, 2009, and at possible additional exhibitions or venues yet to be determined, is in the national interest. Public Notice of these Determinations is ordered to be published in the Federal Register.

FOR FURTHER INFORMATION CONTACT: For further information, including a list of the exhibit objects, contact Julie Simpson, Attorney-Adviser, Office of the Legal Adviser, U.S. Department of State (telephone: (202-453-8050). The address is U.S. Department of State, SA-44, 301 4th Street, SW., Room 700, Washington, DC 20547-0001.

Dated: March 26, 2008
C. Miller Crouch,
Principal Deputy Assistant Secretary for Educational and Cultural Affairs, Department of State.

[FR Doc. E8-6814 Filed 4-1-08; 8:45 am]

BILLING CODE 4710-05-P